GENERAL SERVICES ADMINISTRATION

41 CFR Part 102-118

[FMR Amendment 2009-04; FMR Case 2009-102-4; Docket 2009-0002; Sequence 3]

RIN 3090-AI91

Federal Management Regulation; Transportation Payment and Audit

AGENCY: Office of Governmentwide Policy, General Services Administration (GSA).

ACTION: Final rule.

SUMMARY: The General Services Administration (GSA) is amending the Federal Management Regulation (FMR) covering Transportation Payment and Audit. This final rule updates information and corrects mailing and web site addresses.

DATES: Effective Date: This final rule is effective June 26, 2009.

FOR FURTHER INFORMATION CONTACT: The Regulatory Secretariat, Room 4035, GS Building, Washington, DC 20405, (202) 208-7312, for information pertaining to status or publication schedules. For clarification of content, contact Patrick O'Grady at (202) 208-4493. Please cite FMR case 2009-102-4, Amendment 2009-04.

SUPPLEMENTARY INFORMATION:

A. Background

Federal Management Regulation (FMR) part 102-118 (41 CFR part 102-118, Transportation Payment and Audit) was last reviewed and amended on September 24, 2004 (69 FR 57617). GSA collaborated with four agencies to conduct a review and determine if it is still current and accurate. This final rule reflects the changes recommended by GSA and the other four agencies. Because the changes only apply to administrative matters, GSA has determined it is not necessary to comment on this amendment.

B. Substantive Changes

This revision eliminates references to the GSA's Federal Supply Service, which was reorganized after the regulation was last published and is now called the GSA's Federal Acquisition Service (FAS). It also updates addresses and names of other GSA business lines, and it provides a new address for courier mail for the Civilian Board of Contract Appeals.

C. Executive Order 12866

GSA has determined that this final rule is not a significant regulatory action for the purposes of Executive Order 12866.

D. Regulatory Flexibility Act

This final rule will not have a significant economic impact on a substantial number of small entities within the meaning of the Regulatory Flexibility Act, 5 U.S.C. 601, et seq. Because the final rule only applies to internal agency management, it will not have a significant effect on the public.

E. Paperwork Reduction Act

The Paperwork Reduction Act does not apply because the changes to the FMR do not impose information collection requirements that require the approval of the Office of Management and Budget under 44 U.S.C. 3501, et seq.

F. Small Business Regulatory Enforcement Fairness Act

This final rule is exempt from Congressional review under 5 U.S.C. 801 since it relates solely to agency management and personnel.

List of Subjects in 41 CFR Part 102-118

Accounting, Claims, Government property management, Reporting and recordkeeping requirements, Surplus Government property, Transportation.

Dated: May 29, 2009.
Paul F. Prouty,
Acting Administrator of General Services.

For the reasons set forth in the preamble, GSA is amending 41 CFR part 102-118 as set forth below:

PART 102-118—TRANSPORTATION PAYMENT AND AUDIT

1. The authority citation for 41 CFR part 102-118 continues to read as follows:

Authority: 31 U.S.C. 3726; 40 U.S.C. 121(c), and 49 U.S.C. 10721, 13712, and 15504.

2. Amend part 102-118 by removing “Federal Supply Service Audit Division (FBA), 1800 F Street, NW., Washington, DC 20405” wherever it appears, and adding “Transportation Audit Division (QMCA), Crystal Plaza 4, Room 300, 2200 Crystal Drive, Arlington, VA 22202” in its place.

3. Amend § 102-118.35 by revising the definition of “Government Bill of Lading (GBL)” to read as follows:

§ 102-118.35 What definitions apply to this part?

* * * * *

Government bill of lading (GBL) is the transportation document used as a receipt of goods, evidence of title, and a contract of carriage for Government international shipments.

* * * * *

§§ 102-118.175 and 102-118.180 [Removed]

4. Remove §§ 102-118.175 and 102-118.180.

§ 102-118.240 [Amended]

5. Amend § 102-118.240 by removing “Federal Supply Service” in the address and adding “Federal Acquisition Service” in its place; removing “General Products Commodity Center (7FXM-WS)” and adding “Inventory Management Branch (QSDACDB-WS)” in its place; and removing “6A24” and adding “6A00” in its place.

§ 102-118.245 [Amended]

6. Amend § 102-118.245 by removing “Federal Supply Service” in the address and adding “Federal Acquisition Service” in its place; removing “General Products Commodity Center (7FXM-WS)” and adding “Inventory Management Branch (QSDACDB-WS)” in its place; and removing “6A24” and adding “6A00” in its place.

7. Revise § 102-118.270 to read as follows:

§ 102-118.270 Must my agency establish a prepayment audit program?

Yes, under 31 U.S.C. 3726, your agency is required to establish a prepayment audit program. Your agency must send a preliminary copy of your prepayment audit program to: General Services Administration, Office of Travel, Transportation and Asset Management (MT), 1800 F Street, NW., Washington, DC 20405.

§ 102-118.290 [Amended]

8. Amend § 102-118.290 by removing “General Accounting Office” and “U. S. General Accounting Office” wherever it appears and adding “U.S. Government Accountability Office” in its place.

§ 102-118.380 [Amended]

9. Amend § 102-118.380 by removing “Office of Transportation and Personal Property (MT)” and adding “Office of Travel, Transportation and Asset Management (MT)” in its place; and by removing “http://policyworks.gov/org/main/MT”.

§ 102-118.495 [Amended]

10. Amend § 102-118.495, by removing “General Services Board of Contract Appeals (GSBCA)” in the section heading and adding “Civilian Board of Contract Appeals (CBCA)” in its place; and in the section text by removing “GSBCA” and adding “CBCA” in its place.

11. Revise § 102-118.580 to read as follows:

§ 102-118.580 May a TSP appeal a prepayment audit decision of the GSA Audit Division?

(a) Yes, the TSP may appeal to the Civilian Board of Contract Appeals (CBCA) under guidelines established in this Subpart F, or file a claim with the United States Court of Federal Claims. The TSP's request for review must be received by the CBCA in writing within 6 months (not including time of war) from the date the settlement action was taken or within the periods of limitation specified in 31 U.S.C. 3726, as amended, whichever is later. The TSP must address requests:

(1) By United States Postal Service to: Civilian Board of Contract Appeals (CBCA), 1800 F Street, NW., Washington, DC 20405.

(2) In person or by courier to: Civilian Board of Contract Appeals, 6th floor, 1800 M Street, NW., Washington, DC 20036.

(b) The CBCA will accept legible submissions via facsimile (FAX) on (202) 606-0019.

§ 102-118.585 [Amended]

12. Amend § 102-118.585 by removing “GSBCA” in the section heading and the first sentence and adding “CBCA” in its place.

§ 102-118.595 [Amended]

13. Amend § 102-118.595 by removing “GSBCA” in the section heading and the section text and adding “CBCA” in its place.

§ 102-118.650 [Amended]

14. Amend § 102-118.650 by removing “GSA Board of Contract Appeals (GSBCA)” and adding “Civilian Board of Contract Appeals (CBCA)” in its place.

15. Revise § 102-118.655 to read as follows:

§ 102-118.655 Are there time limits on a TSP request for an administrative review by the CBCA?

(a) Yes, the CBCA must receive a request for review from the TSP within six months (not including time of war) from the date the settlement action was taken or within the periods of limitation specified in 31 U.S.C. 3726, as amended, whichever is later. Address requests:

(1) By United States Postal Service to: Civilian Board of Contract Appeals (CBCA), 1800 F Street, NW., Washington, DC 20405.

(2) In person or by courier to: GSA Civilian Board of Contract Appeals, 6th floor, 1800 M Street, NW., Washington, DC 20036.

(b) The CBCA will accept legible submissions via facsimile (FAX) on (202) 606-0019.

§ 102-118.660 [Amended]

16. Amend § 102-118.660 by removing “GSBCA” in the section heading and the first sentence and adding “CBCA” in its place.

§ 102-118.665 [Amended]

17. Amend § 102-118.665 by removing “GSBCA” in the section heading and the section text and adding “CBCA” in its place.

[FR Doc. E9-15161 Filed 6-25-09; 8:45 am]

BILLING CODE 6820-14-P